DEPARTMENT OF HOMELAND SECURITY

Coast Guard

[Docket No. USCG-2021-0627]

National Merchant Mariner Medical Advisory Committee; September 2021 Teleconference

AGENCY: U.S. Coast Guard, Department of Homeland Security.

ACTION: Notice of Federal advisory committee teleconference meeting.

SUMMARY: The National Merchant Mariner Medical Advisory Committee (Committee) will meet via teleconference to discuss matters relating to medical certification determinations for issuance of licenses, certificates of registry, and merchant mariners' documents, medical standards and guidelines for the physical qualifications of operators of commercial vessels, medical examiner education, and medical research. The meeting will be open to the public.

DATES:

Meeting: The National Merchant Mariner Medical Advisory Committee will meet by teleconference on Wednesday, September 8, 2021, from 11:00 a.m. until 3:00 p.m. (EDT). The teleconference may adjourn early if the Committee has completed its business.

Comments and supporting documentation: To ensure your comments are received by Committee members before the teleconference, submit your written comments no later than September 1, 2021.

ADDRESSES: To join the teleconference or to request special accommodations, contact the individual listed in the FOR FURTHER INFORMATION CONTACT section no later than 1 p.m. EDT on September 1, 2021, to obtain the needed information. The number of teleconference lines are limited and will be available on a first-come, first-served basis.

Instructions: You are free to submit comments at any time, including orally at the teleconference as time permits, but if you want Committee members to review your comment before the teleconference, please submit your comments no later than September 1, 2021. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the docket number USCG-2021-0627. Comments received will be posted without alteration at http://www.regulations.gov, including any personal information provided. You may wish to view the Privacy and Security Notice available on the homepage of https://www.regulations.gov, and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Michael Lalor, Alternate Designated Federal Officer of the National Merchant Mariner Medical Advisory Committee, telephone 202-372-1361 or email michael.w.lalor@uscg.mil.

SUPPLEMENTARY INFORMATION: Notice of this meeting is in compliance with the Federal Advisory Committee Act, 5 U.S.C. Appendix.

The National Merchant Mariner Medical Advisory Committee Meeting is authorized by § 601 of the Frank LoBiondo Coast Guard Authorization Act of 2018. The statutory authority is codified in 46 U.S.C. 15104. The Committee operates under the provisions of the Federal Advisory Committee Act (5 U.S.C. Appendix) in addition to the administrative provisions applicable to all National Maritime Transportation Advisory Committees in 46 U.S.C. 15109.

The Committee advises the Secretary of the Department of Homeland Security through the Commandant of the Coast Guard on matters related to: (a) Medical certification determinations for issuance of licenses, certificates of registry, and merchant mariners' documents; (b) medical standards and guidelines for the physical qualifications of operators of commercial vessels; (c) medical examiner education; and (d) medical research.

Agenda

The agenda for the September 8, 2021, teleconference is as follows:

(1) Introduction.

(2) Designated Federal Officer Remarks.

(3) Introduction, roll call of Committee members and determination of a quorum.

(4) Remarks from U.S. Coast Guard Leadership.

(5) Swearing in of Committee Member.

(6) Report on Status of Working Groups, Determination on Intercessional Meetings and Discussion of Working Group recommendations. The Committee will review the information presented on each issue, deliberate on any recommendations presented by the Working Groups, approve and formulate recommendations and close any completed tasks. Official action on these recommendations may be taken on:

(a) Task Statement 21-01, Recommendations on Mariner Mental Health;

(b) Task Statement 21-02, Communication Between External Stakeholders and the Mariner Credentialing Program;

(c) Task Statement 21-03, Medical Certifications for Military to Mariner;

(d) Task Statement 21-04, Recommendations on Appropriate Diets and Wellness for Mariners While Onboard Merchant Vessels; and

(e) Task Statement 21-05, Review of Proposed Revisions to the International Convention on Standards of Training, Certification and Watchkeeping for Fishing Vessel Personnel (STCW-F) Medical Standards.

(7) New Business:

(a) Task Statement 21-06, Review of Medical Regulations and Policy to identify potential barriers to women in the U.S. maritime workforce.

(8) Updates on Merchant Mariner Medical Regulations and Policy.

(9) Updates from the National Maritime Center.

(10) Public comment period.

(11) Closing remarks and plans for next meeting.

(12) Adjournment of meeting.

A copy of all meeting documentation will be available at https://homeport.uscg.mil/missions/federal-advisory-committees/national-merchant-mariner-medical-advisory-committee-(nmedmac) no later than September 1, 2021. Alternatively, you may contact Mr. Michael Lalor as noted in the FOR FURTHER INFORMATION section above.

During the September 8, 2021 teleconference, a public comment period will be held immediately after the introduction to the National Maritime Center, at approximately 2:00 p.m. EDT. Public comments will be limited to two minutes per speaker. Please note that the public comments period will end following the last call for comments. Please contact the individual listed in the FOR FURTHER INFORMATION CONTACT section, to register as a speaker.

Dated: August 18, 2021.
Jeffrey G. Lantz,
Director of Commercial Regulations and Standards.

[FR Doc. 2021-18036 Filed 8-20-21; 8:45 am]

BILLING CODE 9110-04-P